DEPARTMENT OF ENERGY

Federal Energy Regulatory Commission

[Project No. 4428-011]

Walden Hydro, LLC; Notice Soliciting Scoping Comments

Take notice that the following hydroelectric application has been filed with the Commission and is available for public inspection.

a. Type of Application: New Major License.

b. Project No.: P-4428-011.

c. Date filed: May 29, 2020.

d. Applicant: Walden Hydro, LLC.

e. Name of Project: Walden Hydroelectric Project.

f. Location: On the Wallkill River, in the Village of Walden, Orange County, New York. The project does not occupy any federal land.

g. Filed Pursuant to: Federal Power Act 16 U.S.C. 791(a)-825(r).

h. Applicant Contact: Ms. Elise Anderson, Senior Environmental Permitting Specialist, Walden Hydro, LLC, Enel Green Power North America, Inc., 100 Brickstone Square, Suite 300, Andover, MA 01810; Phone at (978) 447-4408 or email at Elise.Anderson@enel.com.

i. FERC Contact: Samantha Pollak at (202) 502-6419, or samantha.pollak@ferc.gov.

j. Deadline for filing scoping comments: January 11, 2021.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Washington, DC 20426. Submissions sent via any other carrier must be addressed to: Kimberly D. Bose, Secretary, Federal Energy Regulatory Commission, 12225 Wilkins Avenue, Rockville, Maryland 20852. The first page of any filing should include docket number P-4428-011.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The Walden Project consists of: (1) A 417-foot-long (consisting of 165-foot-long east-west and 252-foot-long north-south portions), V-shaped concrete dam topped with 2-foot-high flashboards; (2) an impoundment with a surface area of 69 acres at the normal pool elevation of 321.3 feet National Geodetic Vertical Datum of 1929 (NGVD29); (3) an intake structure consisting of a 252-foot-long, 56-foot-wide, 18-foot-deep canal forebay; (4) a 6-foot-wide sluice gate for a minimum flow of 31 cfs; (5) four 40-foot-long steel penstocks; (6) a 60-foot-long, 45-foot-wide, 29-foot-high powerhouse containing three horizontal double-runner Francis turbine units with actual ratings of 740 kilowatts (kW), 540 kW, and 360 kW, respectively, for a total capacity of 1,640 kW; ¹ (7) a 30-foot-long, 37-foot-wide tailrace; (8) a 230-foot-long bypassed reach; (9) a 115-foot-long transmission line from the project generators to a New York State Electric and Gas Corporation's 4.16-kilovolt (kV) distribution line; (10) a substation with a single-phase 13.2-kV transformer; and (11) appurtenant facilities.

¹ In an October 14, 2020 filing, Walden Hydro stated that although the total rated capacity of the project as stated in the license application is 2,110 kW (980 kW, 630 kW, and 500 kW), the maximum achievable output from each turbine/generator unit is lower than the stated capacities.

m. In addition to publishing the full text of this notice in the Federal Register, the Commission provides all interested persons an opportunity to view and/or print the contents of this notice, as well as other documents in the proceeding (e.g., scoping document) via the internet through the Commission's Home Page (http://www.ferc.gov) using the eLibrary link. Enter the docket number excluding the last three digits in the docket number field to access the document (P-4428). At this time, the Commission has suspended access to the Commission's Public Reference Room due to the proclamation declaring a National Emergency concerning the Novel Coronavirus Disease (COVID-19) issued by the President on March 13, 2020. For assistance, contact FERC at FERCOnlineSupport@ferc.gov or call toll-free, (886) 208-3673 or (202) 502-8659 (TTY).

n. You may also register online at http://www.ferc.gov/docs-filing/esubscription.asp to be notified via email of new filings and issuances related to this or other pending projects. For assistance, contact FERC Online Support.

o. Scoping Process.

The Commission staff intends to prepare an Environmental Assessment (EA) or Environmental Impact Statement (EIS) for the Walden Hydroelectric Project in accordance with the National Environmental Policy Act (NEPA). The NEPA document will consider impacts and reasonable alternatives to the proposed action.

Commission staff does not propose to conduct any on-site scoping meetings at this time. Instead, we are soliciting comments, recommendations, and information, on the Scoping Document (SD) issued on December 11, 2020.

Copies of the SD outlining the subject areas to be addressed in the NEPA document were distributed to the parties on the Commission's mailing list and the applicant's distribution list. Copies of the SD may be viewed on the web at http://www.ferc.gov using the eLibrary link. Enter the docket number excluding the last three digits in the docket number field to access the document. For assistance, call 1-866-208-3676 or for TTY, (202) 502-8659.

Dated: December 11, 2020.
Kimberly D. Bose,
Secretary.

[FR Doc. 2020-27799 Filed 12-16-20; 8:45 am]

BILLING CODE 6717-01-P